DEPARTMENT OF HEALTH AND HUMAN SERVICES

Administration for Children and Families

Office of Refugee Resettlement Grants for Outreach To Target Populations Under Trafficking in Persons Program

AGENCY: U.S. Department of Health and Human Services, Administration for Children and Families (ACF), Office of Refugee Resettlement.

Funding Opportunity Title: Grants for Outreach to Target Populations under the Trafficking in Persons Program.

Announcement Type: Competitive Grant—Initial.

Funding Opportunity Number: HHS-2004-ACF-ORR-ZV-0006.

CFDA Number: 93.598.

Due Date for Applications: The due date for receipt of applications is September 28, 2004.

I. Funding Opportunity Description

The Administration for Children and Families (ACF), Office of Refugee Resettlement (ORR) announces a new grant program under its Trafficking in Persons Program for projects to expand existing outreach activities to identify and counsel victims of a severe form of human trafficking, as defined by the Trafficking Victims Protection Act of 2000 (22 U.S.C. 7101).

A. Background

In 2000, the Trafficking Victims Protection Act (TVPA), Pub. L. 106-386, was enacted in response to the phenomenon of human exploitation overseas and on American soil. The TVPA was reauthorized in December, 2003, by the Trafficking Victims Protection Reauthorization Act of 2003, Pub. L 108-193.

Human trafficking is modern-day slavery. It occurs when the victims are compelled to engage in commercial sex or to provide labor by means of fraud, coercion or force. The crime of trafficking is often confused with human smuggling. The U.S. Department of Justice has provided the following explanation of the difference between smuggling and trafficking (66 FR 38513, 38515 (July 24,2001)):

Federal law makes a distinction between alien smuggling—in which the smuggler arranges for an alien to enter the country illegally for any reason, including where the alien has voluntarily contracted to be smuggled—and severe forms of trafficking in persons. Unlike alien smuggling, as the following definition indicates, severe forms of trafficking in persons must involve both a particular means such as the use of force, fraud, or coercion, and a particular end such as involuntary servitude or a commercial sex act (with regards to a commercial sex act, however, the use of force, fraud, or coercion is not necessary if the person induced to perform a commercial sex act is under the age of 18). Pursuant to the TVPA, victims of severe forms of trafficking are persons who are recruited, harbored, transported, provided, or obtained for: (1) Labor or services, through the use of force, fraud, or coercion for the purpose of subjection to involuntary servitude, peonage, debt bondage, or slavery; or (2) the purpose of a commercial sex act in which such act is induced by force, fraud, or coercion, or in which the person induced to perform such act has not attained 18 years of age. Aliens who are voluntarily smuggled into the United States, in most cases, will not be considered victims of severe forms of trafficking in persons. However, individuals who are smuggled into the United States in order to be used for labor or services may become victims of a severe form of trafficking in persons if, for example, after arrival the smuggler uses threats of serious harm or physical restraint to force the individual into involuntary servitude, peonage, debt bondage, or slavery. Federal law prohibits forced labor regardless of the victim's initial consent to work. This distinction between alien smuggling and severe forms of trafficking in persons is consistent with the separate treatment of the trafficking and smuggling issues internationally.

In response to the TVPA enactment, ORR modified in 2001 a standing announcement for social services to meet the needs of newly arriving refugees, to include services to victims of a severe form of trafficking. In February 2002, ORR further modified Category 3 of the existing standing announcement by removing services to victims of a severe form of trafficking in order to proceed with a new and separate announcement specifically aimed at promoting awareness about human trafficking and addressing the service needs of victims of a severe form of trafficking. That notice of modification was published in the Federal Register on February 8, 2002 (67 FR 6048).

On May 24, 2002, ORR published an announcement in the Federal Register (67 FR 36622) seeking applications in three categories of activities: to provide local/community outreach and/or services to victims of a severe form of trafficking (category 1); to provide technical assistance and training (category 2); and to provide information discovery for a national outreach/education campaign (category 3). Due to the positive response from that grant announcement, ORR decided to provide additional funding in Fiscal Year 2003 for category one activities ((to provide local/community outreach and/or services to victims of a severe form of trafficking)(67 FR 59855 (September 24, 2002)).

ORR intends to provide continuation funding, where appropriate, for trafficking grants awarded in FYs 2002 and 2003 for category 1 and category 2 grants. These grantees are continuing to provide benefits and services to victims of severe forms of trafficking who have certification and eligibility letters. As a result of the trafficking reauthorization, however, such benefits and services beginning on December 19, 2003, shall be provided to certain family members of trafficking victims who have received T visas and may also include services to assist potential victims of trafficking in achieving certification and to assist minor dependent children of victims of severe forms of trafficking in persons or potential victims of trafficking.

While these grant opportunities helped to establish a network of service providers ready to assist victims of a severe form of trafficking, the pace of victim identification since passage of the TVPA has been slower than expected. The U.S. government estimates that 18,000—20,000 victims are trafficked into the United States each year, yet fewer than 500 victims have been certified for benefits since passage of the TVPA. Some of the difficulties in getting victims to come forward were anticipated by Congress, as described in the Findings section, section 102(b)(20)) of the TVPA:

(20) Because victims of trafficking are frequently unfamiliar with the laws, cultures, and languages of the countries into which they have been trafficked, because they are often subjected to coercion and intimidation including physical detention and debt bondage, and because they often fear retribution and forcible removal to countries in which they will face retribution or other hardship, these victims often find it difficult or impossible to report the crimes committed against them or to assist in the investigation and prosecution of such crimes.

In order to increase the rate of victim identification, HHS has undertaken a public awareness campaign to promote awareness of the phenomenon of trafficking and of the programs available to aid victims of trafficking. As part of the campaign, ORR is sponsoring a trafficking information and referral hotline. Additionally, HHS now publishes the current announcement of a fourth category of trafficking grants, supporting outreach to populations among which trafficking victims are likely to be found, for the purpose of counseling victims to access the programs available to help them rebuild their lives while remaining in the United States. This category of grants differs from the category one grants, which supported generalized local/community outreach activities, because this category supports particularized direct outreach to target populations. ORR does not expect to publish any other trafficking grant opportunities during this fiscal year.

B. Program Purpose and Objectives

The purpose of the Outreach to Victims of Human Trafficking grant program is to increase the identification of trafficking victims, as defined by the TVPA, and to encourage victims to leave their trafficked condition by counseling them on the programs available to assist victims, by alerting local law enforcement where appropriate, and by connecting the victims with a qualified service provider prepared to assist victims of trafficking. This grant program seeks to provide financial assistance to existing programs of outreach to populations among which victims of human trafficking may be found (whether or not current activities to such populations pertain to trafficking). It does not intend to support the initiation of a program by organizations not currently conducting such outreach. Populations among which victims of trafficking may be found include, but are not limited to: prostitutes, persons engaged in sex entertainment, migrant farmer workers, domestic or household employees, low wage industrial or factory workers, janitors, restaurant employees, and immigrant populations generally.

C. Definitions

These relevant definitions are taken from section 103 of the TVPA:

(1) SEVERE FORMS OF TRAFFICKING IN PERSONS-The term ‘severe forms of trafficking in persons’ means—

(A) sex trafficking in which a commercial sex act is induced by force, fraud, or coercion, or in which the person induced to perform such act has not attained 18 years of age; or

(B) the recruitment, harboring, transportation, provision, or obtaining of a person for labor or services, through the use of force, fraud, or coercion for the purpose of subjection to involuntary servitude, peonage, debt bondage, or slavery.

(2) SEX TRAFFICKING—The term ‘sex trafficking’ means the recruitment, harboring, transportation, provision, or obtaining of a person for the purpose of a commercial sex act.

(3) COMMERCIAL SEX ACT—The term ‘commercial sex act’ means any sex act on account of which anything of value is given to or received by any person.

(4) VICTIM OF A SEVERE FORM OF TRAFFICKING—The term ‘victim of a severe form of trafficking’ means a person subject to an act or practice described in paragraph (1).

(5) COERCION—The term ‘coercion’ means—

(A) threats of serious harm to or physical restraint against any person;

(B) any scheme, plan, or pattern intended to cause a person to believe that failure to perform an act would result in serious harm to or physical restraint against any person; or

(C) the abuse or threatened abuse of the legal process.

(6) DEBT BONDAGE—The term ‘debt bondage’ means the status or condition of a debtor arising from a pledge by the debtor of his or her personal services or of those of a person under his or her control as a security for debt, if the value of those services as reasonably assessed is not applied toward the liquidation of the debt or the length and nature of those services are not respectively limited and defined.

(7) INVOLUNTARY SERVITUDE—The term ‘involuntary servitude’ includes a condition of servitude induced by means of—

(A) any scheme, plan, or pattern intended to cause a person to believe that, if the person did not enter into or continue in such condition, that person or another person would suffer serious harm or physical restraint; or

(B) the abuse or threatened abuse of the legal process.

D. Legislative Authority

These grants are authorized by three provisions of law: section 106(b) of the Trafficking Victims Protection Act of 2000 (TVPA)(22 U.S.C. 7104(b)) as amended by section 4(a)(2)(B)(ii) of the Trafficking Victims Protection Reauthorization Act of 2003 (Pub. L. 108-193); section 107(b)(1)(B) of the TVPA; and section 412(c)(1)(A) of the Immigration and Nationality Act (INA)(8 U.S.C. 1522(c)(1)(A)).

Section 106(b) of the TVPA provides: “The President, acting through the Secretary of Labor, the Secretary of Health and Human Services, the Attorney General, and the Secretary of State, shall establish and carry out programs to increase public awareness, particularly among potential victims of trafficking, of the dangers of trafficking and the protections that are available for victims of trafficking.”

Section 107(b)(1)(B) of the TVPA provides that “the Secretary of Health and Human Services * * * shall expand benefits and services to victims of severe forms of trafficking in persons in the United States and aliens classified as a nonimmigrant under section 101(a)(15)(T)(ii), without regard to the immigration status of such victims.” The Reauthorization Act further amended this provision by adding, “In the case of nonentitlement programs funded by the Secretary of Health and Human Services, such benefits and services may include services to assist potential victims of trafficking in achieving certification and to assist minor dependent children of victims of severe forms of trafficking in persons or potential victims of trafficking.” This provision anticipates activities to assist victims prior to HHS certification, which would otherwise be required in order for victims to access most federally-funded benefits.

Section 412(c)(1)(A) of the INA authorizes the Director “to make grants to, and enter into contracts with, public or private nonprofit agencies for projects specifically designed—(i) to assist refugees in obtaining the skills which are necessary for economic self-sufficiency, including projects for job training, employment services, day care, professional refresher training, and other re-certification services; (ii) to provide training in English where necessary (regardless of whether the refugees are employed or receiving cash or other assistance); and (iii) to provide where specific needs have been shown and recognized by the Director, health (including mental health) services, social services, educational and other services.”

II. Award Information

Funding Instrument Type: Grant.

Anticipated Total Program Funding: $1,000,000 in FY2005.

Anticipated Number of Awards: 15.

Ceiling on Amount of Individual Awards: $150,000 per project period.

An application received that exceeds the upper value of the dollar range specified will be considered “non-responsive” and be returned to the applicant without further review.

Floor of Individual Award Amounts: None.

Average Anticipated Award Amount: $70,000 per project period.

Project Periods for Awards: These grants shall be for a project period of seventeen (17) months.

III. Eligibility Information

1. Eligible Applicants

Public, private for-profit and private nonprofit organizations, including faith-based organizations, are eligible to apply for any of these grants. For-profit entities are eligible to apply, although HHS funds may not be paid as profit to any recipient even if the recipient is a commercial organization (45 CFR 74.81). Any private nonprofit organization submitting an application must submit proof of its status in its application at the time of submission. The nonprofit agency can accomplish this by providing any of the following:

(a) A copy of the applicant's listing in the Internal Revenue Service's (IRS) most recent list of tax-exempt organizations described in the IRS code;

(b) A copy of a currently valid IRS tax exemption certificate;

(c) A statement from a State taxing body, State Attorney General or other appropriate State official certifying that the applicant organization has a nonprofit status and that none of the net earnings accrue to any private shareholders or individual;

(d) A certified copy of the organization's certificate of incorporation or similar document that clearly establishes nonprofit status;

(e) Any of the items in the subparagraphs immediately above for a State or national parent organization and a statement signed by the parent organization that the applicant organization is a local nonprofit affiliate.

Additional Eligibility Considerations

The U.S. Government is opposed to prostitution and related activities, which are inherently harmful and dehumanizing, and contribute to the phenomenon of trafficking in persons. U.S. non-governmental organizations, and their sub-grantees, cannot use U.S. Government funds to lobby for, promote or advocate the legalization or regulation of prostitution as a legitimate form of work. Foreign non-governmental organizations, and their sub-grantees, that receive U.S. Government funds to fight trafficking in persons cannot lobby for, promote or advocate the legalization or regulation of prostitution as a legitimate form of work. It is the responsibility of the primary grantee to ensure these criteria are met by its sub-grantees. Accordingly, the grant application must include certification that no monies, if awarded, will be used for these unallowable purposes.

Applications must include copies of all written materials that will be provided to victims of severe forms of trafficking, including victims of sex trafficking, and these materials must be clear and appropriate. Materials not yet generated must be submitted to the project officer for review prior to reproduction. The application must include a clear and detailed description of services to be provided to victims of severe trafficking, including services to victims of sex trafficking.

Allowable Activities

The purpose of this program is to support direct, person-to-person contact, information sharing, counseling and other communication between agents of the grant recipient and members of a specified target population “ among which victims of trafficking may be found. Any activity which is integral to the development and execution of opportunities for such direct interaction is potentially allowable, except for activities declared to be unallowable below. In addition, the collection, organization and analysis of information regarding places and facilities where trafficking victims may be held or exploited is allowable. It is anticipated that applicants will make current clients or contacts aware of the phenomenon of human trafficking, and will debrief them regarding their knowledge of the existence of trafficking victims among fellow members of the population being served by the grant applicant.

Other examples of allowable activities include but are not limited to:

a. Outreach teams that engage target populations in places of dwelling and in outdoor fora such as parks, street corners/sidewalks, agricultural facilities, and other places of congregation;

b. Mobile canteens that bring food and personal sundries to members of a target population for the purpose of building rapport;

c. Informational outreach in low-income and immigrant communities to counsel members about the availability of supportive services or health care opportunities, or to provide legal counseling;

d. Ethnic-centered outreach efforts into particular immigrant populations for various other purposes (e.g., educational, community development).

e. Other forms of on-site needs assessment and referral services, obviating the need for victims to make office visits.

This grant announcement is not intended to support the provision of more than incidental material benefit to outreach clients. For example, mobile health clinics may present an appropriate outreach opportunity, but this grant announcement would not be an appropriate funding vehicle for the underlying medical services—just for the incremental costs of seeking out victims of trafficking among the population already being served. Neither is this grant announcement appropriate for funding direct benefits to the victims after identification and rescue.

2. Cost Sharing or Matching

Cost sharing or matching funds are not required for applications submitted under this program announcement.

3. Other

All applicants must have a Dun & Bradstreet number. On June 27, 2003, the Office of Management and Budget published in the Federal Register a new Federal policy applicable to all Federal grant applicants. The policy requires Federal grant applicants to provide a Dun and Bradstreet Data Universal Numbering System (DUNS) number when applying for Federal grants or cooperative agreements on of after October 1, 2003. The DUNS number will be required whether an applicant is submitting a paper application or using the government-wide electronic portal (http://www.Grants.gov). A DUNS number will be required for every application for a new award or renewal/continuation of an award, including applications or plans under formula, entitlement and block grant programs, submitted on or after October 1, 2003.

Please ensure that your organization has a DUNS number. You may acquire a DUNS number at no cost by calling the dedicated toll-free DUNS number request line at 1-866-705-5711 or you may request a number on-line at http://www.dnb.com.

Applications that fail to follow the required format described in section IV.2 Content and Form of Application Submission will be considered non-responsive and will not be eligible for funding under this announcement.

Applications that exceed the $150,000 ceiling will be considered non-responsive and will not be eligible for funding under this announcement.

IV. Application and Submission Information

1. Address To Request Application Package

The program announcement and the application materials are available from either Antoinette Aqui or Emmett McGroarty, Office of Refugee Resettlement (ORR), 370 L'Enfant Promenade, SW., 6th Floor East, Washington, DC 20447, and from the ORR Web site at: http://www.acf.hhs.gov/programs/orr. For further information contact either Antoinette Aqui, (202) 401-4825, aaqui@acf.hhs.gov or Emmett McGroarty, (202) 401-5525, emcgroarty@acf.hhs.gov.

2. Content and Form of Application Submission

In order to be considered for a grant under this program announcement, an application must be submitted on the forms supplied and in the manner prescribed by ACF. An application with an original signature and two clearly identified copies are required. Applicants must clearly indicate on the SF 424 the grant announcement number under which the application is submitted.

Application Forms—Applicants requesting financial assistance under this announcement must file the Standard Form (SF) 424, Application for Federal Assistance; SF 424A, Budget Information—Non-construction Programs; SF 424B, Assurances—Non-Construction Programs. The forms may be reproduced for use in submitting applications. Application materials including forms and instructions are also available from the Contact named in the preamble of this announcement.

Private, non-profit organizations are encouraged to submit with their applications the survey located under “Grant Related Documents and Forms” titled “Survey for Private, Non-Profit Grant Applicants” at http://www.acf.hhs.gov/programs/ofs/forms.htm.

Applicants have the option of omitting from the application copies (not the original) specific salary rates or amounts for individuals specified in the application budget.

You may submit your application to us in either electronic or paper format.

To submit an application electronically, please use the http://www.Grants.gov apply site. If you use Grants.gov, you will be able to download a copy of the application package, complete it off-line, and then upload and submit the application via the Grants.gov site. You may not e-mail an electronic copy of a grant application to us.

Please note the following if you plan to submit your application electronically via Grants.gov

• Electronic submission is voluntary.

• When you enter the Grants.gov site, you will find information about submitting an application electronically through the site, as well as the hours of operation. We strongly recommend that you do not wait until the application deadline date to begin the application process through Grants.gov.

• To use Grants.gov, you, as the applicant, must have a DUNS Number and register in the Central Contractor Registry (CCR). You should allow a minimum of five days to complete the CCR registration.

• You will not receive additional point value because you submit a grant application in electronic format, nor will we penalize you if you submit an application in paper format.

• You may submit all documents electronically, including all information typically included on the SF 424 and all necessary assurances and certifications.

• Your application must comply with any page limitation requirements described in this program announcement.

• After you electronically submit your application, you will receive an automatic acknowledgement from Grants.gov that contains a Grants.gov tracking number. The Administration for Children and Families will retrieve your application from Grants.

• We may request that you provide original signatures on forms at a later date.

• You may access the electronic application for this program on http://www.Grants.gov.

• You must search for the downloadable application package by the CFDA number.

Certifications, Assurances, And Disclosure Required For Non-Construction Programs—Applicants must sign and return the disclosure form, if applicable, with their applications. Applicants requesting financial assistance for non-construction projects must file the Standard Form 424B, “Assurances: Non-Construction Programs.” Applicants must sign and return the Standard Form 424B with their applications.

Applicants must provide a signed certification regarding lobbying with their applications, when applying for an award in excess of $100,000. Applicants who have used non-federal funds for lobbying activities in connection with receiving assistance under this announcement shall complete a disclosure form to report lobbying.

Private non-profit organizations may voluntarily submit with their applications the survey located under “Grant Related Documents and Forms” titled “Survey for Private, Non-Profit Grant Applicants” at http://www.acf.hhs.gov/programs/ofs/forms.htm.

The applicant must specify the metropolitan statistical area (MSA) in which activities will be conducted, and each application should be for activities in a single MSA, although multiple applications are welcome.

Length of Applications—Each application narrative should not exceed 10 pages in a 12-pitch font. Attachments and appendices should not exceed 25 pages and should be used only to provide supporting documentation such as administration charts, position descriptions, resumes, and letters of intent or partnership agreements. A table of contents and a project summary/abstract should be included but will not count in the page limitations. Organizations are encouraged to provide annual reports, which similarly will not be counted toward the page limit. Each page should be numbered sequentially, including the attachments and appendices. This limitation of 10 pages should be considered as a maximum, and not necessarily a goal. Application forms are not to be counted in the page limit.

Please do not include books or videotapes as they are not easily reproduced and are, therefore, inaccessible to the reviewers.

3. Submission Dates and Times

The closing time and date for receipt of applications is 4:30 p.m. eastern standard time (e.s.t.) on September 28, 2004.

Mailed or hand carried applications received after 4:30 p.m. on the closing date will be classified as late.

Deadline: Mailed applications shall be considered as meeting an announced deadline if they are either received on or before the deadline time and date at the: U.S. Department of Health and Human Services, Administration for Children and Families, Office of Grants Management, Division of Discretionary Grants, Attention: Sylvia Johnson, 370 L'Enfant Promenade, SW., 4th Floor, Washington, DC 20447. Applicants are responsible for mailing applications well in advance to ensure that applications are received on or before the deadline time and date.

Applications hand carried by applicants, applicant couriers, other representatives of the applicant, or by overnight/express mail couriers shall be considered as meeting an announced deadline if they are received on or before the deadline date, between the hours of 8 a.m. and 4:30 p.m., e.s.t., to the U.S. Department of Health and Human Services, Administration for Children and Families, Division of Discretionary Grants, at the ACF Mailroom, 2nd Floor (near loading dock), Aerospace Center, 901 D Street, SW., Washington, DC 20024, between Monday and Friday (excluding Federal holidays). This address must appear on the envelope/package containing the application with the note “Attention: Sylvia Johnson.” Applicants are cautioned that express/overnight mail services do not always deliver as agreed.

ACF cannot accommodate transmission of applications by fax.

Late applications: Applications which do not meet the criteria above are considered late applications. ACF shall notify each late applicant that its application will not be considered in the current competition.

Extension of deadlines: ACF may extend application deadlines when circumstances such as acts of God (floods, hurricanes, etc.) occur, or when there are widespread disruptions of mail service, or in other rare cases. A determination to extend or waive deadline requirements rests with the Chief Grants Management Officer.

What to submit | Required content | Required form or format | When to submit
SF424, SF424a, SF424B | Per required form | May be found at http://www.acf.hhs.gov/program/ofs/forms.htm | By application due date.
Project Summary/Abstract | Summary of application request | One page limit | By application due date.
Project Description | Responsiveness to evaluation criteria | Format described in Review and Selection section. Limit 10 pages. Size 12 font, 1” margins. | By application due date
Certification Regarding Lobbying and Disclosure of Lobbying Activities | Per required form, if application for $100,000 or more | May be found at http://www.acf.hhs.gov/program/ofs/forms.htm | By application due date.

Additional Forms

Private non-profit organizations are encouraged to submit with their applications the survey located under “Grant Related Documents and Forms” titled “Survey for Private, Non-Profit Grant Applicants” at http://www.acf.hhs.gov/programs/ofs/forms.htm.

What to submit | Required content | Required form or format | When to submit
Survey for Private, Non-profit Grant Applicants | Per Required Form | http://www.acf.hhs.gov/programs/ofs/forms.htm | By application due Date.

4. Intergovernmental Review

State Single Point of Contact (SPOC)

This program is covered under Executive Order (E.O.) 12372, “Intergovernmental Review of Federal Programs”, and 45 CFR part 100, “Intergovernmental Review of Department of Health and Human Services Programs and Activities”. Under the Order, States may design their own processes for reviewing and commenting on proposed Federal assistance under covered programs.

As of October 2003, of the most recent SPOC list, the following jurisdictions have elected not to participate in the Executive Order process. Applicants from these jurisdictions or for projects administered by federally-recognized Indian Tribes need take no action in regard to E.O. 12372: Alabama, Alaska, Arizona, Colorado, Connecticut, Hawaii, Idaho, Indiana, Kansas, Louisiana, Massachusetts, Minnesota, Montana, Nebraska, New Jersey, New York, Ohio, Oklahoma, Oregon, Palau, Pennsylvania, South Dakota, Tennessee, Vermont, Virginia, Washington and Wyoming.

Although the jurisdictions listed above no longer participate in the process, entities which have met the eligibility requirements of the program are still eligible to apply for a grant even if a State, Territory, Commonwealth, etc. does not have a SPOC. All remaining jurisdictions participate in the Executive Order process and have established SPOCs. Applicants from participating jurisdictions should contact their SPOCs as soon as possible to alert them of the prospective applications and receive instructions. Applicants must submit any required material to the SPOCs as soon as possible so that the program office can obtain and review SPOC comments as part of the award process. The applicant must submit all required materials, if any, to the SPOC and indicate the date of this submittal (or the date of contact if no submittal is required) on the Standard Form 424, item 16a. Under 45 CFR 100.8(a) (2), a SPOC has 60 days from the application deadline to comment on proposed new or competing continuation awards.

SPOCs are encouraged to eliminate the submission of routine endorsements as official recommendations. Additionally, SPOCs are requested to clearly differentiate between mere advisory comments and those official State process recommendations which may trigger the “accommodate or explain” rule.

When comments are submitted directly to ACF, they should be addressed to: Department of Health and Human Services, Administration for Children and Families, Division of Discretionary Grants, 370 L'Enfant Promenade, SW., Washington, DC 20447.

The official list, including addresses, of the jurisdictions elected to participate in E.O. 12372 can be found on the following URL: http://www.whitehouse.gov/omb/grants/spoc.html.

5. Funding Restrictions

The applicant must specify the metropolitan statistical area (MSA) in which activities will be conducted, and each application should be for activities in a single MSA, although multiple applications are welcome.

Non-Allowable Activities

Funds will not be awarded to applicants for the purpose of engaging in activities of a distinctly political nature, activities designed exclusively to promote the preservation of a specific cultural heritage, or activities with an international objective (e.g., activities related to events in the refugees' country of origin). Pursuant to the policies of the U.S. government, no funds awarded under this announcement may be used by recipient organizations or by their sub-grantees to lobby for, promote or advocate the legalization or regulation of prostitution as a legitimate form of work.

No funds may be used to engage in illegal activities or in activities which give the impression of an intent to engage in illegal activities. No funds may be used to engage in inherently law enforcement type activities, such as surveillance or undercover detection. Outreach agents of the grant applicant may choose to use a name other than their own in the conduct of outreach activities, but they may not intentionally deceive others regarding the purpose and intent of their activities. Grant recipients must respect all applicable property rights in the conduct of their outreach. In the case of activities conducted at a place of public accommodation, grant recipients must comply with requirements made of other patrons. No funds may be used to patronize or otherwise benefit prostitution or sex entertainment establishments. No funds may be used for the purchase or distribution of contraceptives.

6. Other Submission Requirements

Electronic Address to Submit Applications: http://www.Grants.gov.

Submission by Mail: Mailed applications shall be considered as meeting an announced deadline if they are received on or before the deadline time and date at the U.S. Department of Health and Human Services, Administration for Children and Families, Division of Discretionary Grants, Attention: Sylvia Johnson, 370 L'Enfant Promenade, SW., 4th Floor, Washington, DC 20447. Applicants are responsible for mailing applications well in advance, when using all mail services, to ensure that the applications are received on or before the deadline time and date.

Hand Delivery: Applications hand carried by applicants, applicant couriers, other representatives of the applicant, or by overnight/express mail couriers shall be considered as meeting an announced deadline if they are received on or before the deadline date, between the hours of 8 a.m. and 4:30 p.m., e.s.t., to the U.S. Department of Health and Human Services, Administration for Children and Families, Division of Discretionary Grants, at the ACF Mailroom, 2nd Floor (near loading dock), Aerospace Center, 901 D Street, SW., Washington, DC 20024, between Monday and Friday (excluding Federal holidays). This address must appear on the envelope/package containing the application with the note “Attention: Sylvia Johnson.” Applicants are cautioned that express/overnight mail services do not always deliver as agreed. ACF cannot accommodate transmission of applications by fax.

Electronic Submission: Please see Section IV. 2. Content and Form of Application Submission, for guidelines and requirements when submitting applications electronically.

V. Application Review Information

1. Criteria

The Paperwork Reduction Act of 1995 (Pub. L. 104-13)

Public reporting burden for this collection of information is estimated to average 25 hours per response, including the time for reviewing instructions, gathering and maintaining the data needed and reviewing the collection information. The project description is approved under OMB control number 0970-0139. An agency may not conduct or sponsor, and a person is not required to respond to, a collection of information unless it displays a currently valid OMB control number.

Effective applications will clearly explain how the receipt of a grant under this announcement will allow the organization to expand its existing outreach activities so as to identify and assist victims of trafficking among a specific population which is the object of outreach activities. Applications should clearly describe the population which will be targeted for outreach, and in which metropolitan statistical area activities will be conducted. Each application should be for program activities in a single metropolitan statistical area, although any organization may submit more than one application.

The following are instructions and guidelines on how to prepare the “project summary/abstract” and “full project description.” The project description provides a major means by which an application is evaluated and ranked to compete with other applications for available assistance. The project description should be concise and complete and should address the activity for which federal funds are being requested. Supporting documents should be included where they can present information clearly and succinctly. Applicants are encouraged to provide information on their organizational structure, staff, related experience, and other information considered relevant. Awarding offices use this and other information to determine whether the applicant has the capability and resources necessary to carry out the proposed project. It is important, therefore, that this information be included in the application. However, in the narrative the applicant must distinguish between resources directly related to the proposed project from those that will not be used in support of the specific project for which funds are requested.

The project summary/abstract is a concise description of the proposed project, including such factors as the location of the project (defined as a single MSA), the target population toward which outreach activities will be directed, the nature of the proposed outreach activities, and a brief description of the organization's experience with such outreach.

It is recommended that the full project description address these considerations:

Approach

The full project description should include a statement of the overall strategy and a detailed plan, including a clear description of how funds awarded under this announcement will be utilized to expand current outreach activities for the purpose of identifying victims of trafficking. The statement should justify the expectation that trafficking victims will be identified as the result of this expansion of activities. The nature of activities to be directed at victims of trafficking should be clearly described and some quantification of these activities provided. The plan should make clear how the proposed activities will be accomplished.

The project description should provide a plan for providing vital services to newly-liberated victims of trafficking, which may utilize other organizations (including current ORR trafficking program grantees and faith-based organizations) for service provision. Although funds for this program are not intended to provide such direct services, this plan will provide evidence that the applicant has carefully thought through the care of identified victims. Where partner organizations are proposed for this purpose, evidence of the partner's commitment is recommended, i.e., by Memoranda of Understanding (MOUs) or similar documentation.

The project description should also provide a plan for liaison with local law enforcement agencies, so that the activities of the applicant will not interfere with local law enforcement actions, nor take local law enforcement agencies by surprise (the creation of an advisory committee which includes representatives of local and federal law enforcement agencies is an example of an appropriate mechanism for this purpose). And the plan should describe precautions to be taken to minimize the risk of physical harm of outreach workers.

Objectives and Need

The full project description should clearly describe the population currently being served through outreach activities, and explain the expectation that trafficking victims may be identified within that population. The nature of the current outreach program should be clearly described, and the expected incremental increase in activities attributable to a grant award described as well.

Results or Benefits Expected

The full project description should articulate the results and benefits to be achieved with quantifiable measures of success, and should explain how the award of funds are expected to impact these key indicators. Project outcomes should be proposed which are measurable and achievable within the grant project period; monitoring and information collection related to anticipated outcomes should be described.

Organizational Profiles

The administrative and management features of the project, including a plan for fiscal and programmatic management of each activity and planning activities, should be described in some detail with proposed start-up times, ongoing timelines, major milestones or benchmarks, a component/project organization chart, management of affiliates, and a staffing chart of an affiliate network. The qualifications of the organization, based on previous relevant experience, should be provided, and the expertise of project staff, both of the applicant and of affiliate agencies, as well as any volunteers, should be documented.

Budget and Budget Justification

A line item budget should be provided on the budget information form. This budget should be accompanied as necessary by a narrative justification, and should be reasonable, clearly presented, and cost-effective in relation to the proposed activities and anticipated results. The budget narrative should describe how awarded funds will complement current outreach activities, and detail how the proposed outreach activities benefit from financial efficiencies or sunk costs of the existing outreach program. Planning for continuation of activities beyond the project period should be addressed.

2. Evaluation Criteria

Criterion One: Approach (Maximum 35 Points)

Factors:

Quality of the project plan (25 points)

Applications will be evaluated on the basis of a statement of strategy and a detailed plan, considering how funds awarded under this announcement will be utilized to expand current outreach activities for the purpose of identifying victims of trafficking. The likelihood of trafficking victims being identified as the result of this expansion of activities will be assessed. The clarity of the proposed activities and the reasonableness and feasibility of proposed activities and timeframes will be considered.

Protocol for Service Provision to Victims (5 points)

Applications will be evaluated for quality of consideration of how vital services will be provided to newly-liberated victims of trafficking, which may utilize other organizations (including current ORR trafficking program grantees and faith-based organizations) for service provision.

Protocol for Liaison with Law Enforcement Agencies (5 points)

Applications will be evaluated for existence and quality of a plan for liaison with local law enforcement agencies, so that the activities of the applicant will complement and not interfere with local law enforcement actions. Applications will be assessed for precautions to be taken to minimize the risk of physical harm of outreach workers.

Criterion Two: Objectives and Need (Maximum 20 Points)

Evaluations on this criterion will focus on the population proposed to be served through outreach activities (presumed to be a population currently being served by the applicant), and the justification provided for the expectation that trafficking victims will be identified within that population. The appropriateness of the current outreach for that population will also be considered.

Criterion Three: Results or Benefits Expected (Maximum 20 Points)

Applications will be evaluated for results and benefits expected to be achieved. In particular, the incremental impact of grant funding will be assessed in terms of the outcomes proposed. The degree to which intended outcomes are quantifiable and achievable will be considered. The quality of the proposed mechanism for measuring outcomes will be considered.

Criterion Four: Organizational Profiles (Maximum 10 Points)

Evidence of the organizational capability to achieve the proposed outcomes will be assessed under this criterion. Such capability is demonstrated by prior relevant experience, and by administrative and management features of the project, including a plan for fiscal and programmatic management of each activity and planning activities, are described in detail with proposed start-up times, ongoing timelines, major milestones or benchmarks, a component/project organization chart, management of affiliates, and a staffing chart of an affiliate network. Capability is also demonstrated through the presentation of qualifications of project staff, both applicant and affiliate agencies, as well as any volunteers.

Criterion Five: Budget and Budget Justification (Maximum 15 Points)

Applications will be evaluated for the degree to which the line item budget and narrative justification are reasonable, clearly presented, and cost-effective in relation to the proposed activities. Consideration will also be given to synergies between the proposed grant and current activities, including the degree to which proposed outreach activities benefit from financial efficiencies or sunk costs of the existing outreach program.

3. Review and Selection Process

Initial ACF Screening—Each application submitted under this program announcement will undergo a pre-review to determine that (1) the application was received by the closing date and submitted in accordance with the instructions in this announcement; and (2) the applicant is eligible for funding.

Competitive Review and Evaluation Criteria: Applications which pass the initial ACF screening will be evaluated and rated by an independent review panel on the basis of evaluation criteria specified in Part I. The evaluation criteria were designed to assess the quality of a proposed project and to determine the likelihood of its success. The evaluation criteria are closely related and are considered as a whole in judging the overall quality of an application. Points are awarded only to applications that are responsive to the evaluation criteria within the context of this program announcement.

Selection of Grant Recipients: In general, the most highly rated applications will be funded first, to the extent of available funds. However, the Director of ORR reserves the right to award less or more than the funds described in this announcement. In the absence of worthy applications, the Director of ORR may decide not to make an award if this is deemed in the best interests of the government. The Director of ORR reserves the right to award grants after taking into consideration the geographic distribution of eligible recipients. The Director of ORR does not intend to award more than one grant per metropolitan statistical area for any particular target population, and the Director of ORR may insure that a grant is awarded for certain high priority metropolitan statistical areas. These high priority metropolitan statistical areas are those expected to have substantial trafficking activity, and are: Atlanta, Baltimore, Chicago, Dallas, Detroit, Fresno, Greensboro/Winston-Salem, Las Vegas, Los Angeles, Miami, Milwaukee, Minneapolis/St. Paul, New York, Newark, Orlando, Philadelphia/Camden, Phoenix, Portland, San Diego, San Francisco, Seattle, Tampa/St. Petersburg, and Washington DC. Funding availability for future years is at the Director's discretion.

Approved but Unfunded Applications: In cases where more applications are approved for funding than ACF can fund with the money available, the Grants Officer shall fund applications in their order of approval until funds run out. In this case, ACF has the option of carrying over the approved applications up to a year for funding consideration in a later competition of the same program. These applications need not be reviewed and scored again if the program's evaluation criteria have not changed. However, they must then be placed in rank order along with other applications in the later competition.

VI. Award Administration Information

1. Award Notices

The successful applicants will be notified through the issuance of a Financial Assistance Award document which sets forth the amount of funds, granted, the terms and conditions of the grant, the effective date of the grant, the budget period for which initial support will be given, the non-Federal share to be provided, and the total project period for which support is contemplated. The Financial Assistance Award will be signed by the Grants Officer and transmitted via postal mail.

Organizations whose applications will not be funded will be notified in writing.

2. Administrative and National Policy Requirements

45 CFR part 74 or 45 CFR part 92.

3. Reporting Requirements

Programmatic Reports: Semi-annually, with a final report due 90 days after the end of the grant period.

Financial Reports: Semi-annually, with a final report due 90 days after the end of the grant period (using SF-269).

VII. Agency Contacts

Program Office Contact: Mr. Emmett McGroarty, Office of Refugee Resettlement, ACF, 370 L'Enfant Promenade, SW., 6th Floor East, Washington, DC 20447, 202.401.5525, e-mail: emcgroarty@acf.hhs.gov.

Grants Management Office Contact: Ms. Sylvia Johnson, Administration for Children and Families, Office of Grants Management, Division of Discretionary Grants, 370 L'Enfant Promenade, SW., 4th Floor, Washington, DC 20447, 202.401.4524, e-mail: syjohnson@acf.hhs.gov.

VIII. Other Information

Additional information about the Trafficking in Persons Program can be found on our Web site, http://www.acf.hhs.gov/trafficking.

Dated: June 29, 2004.
Nguyen Van Hanh,
Director, Office of Refugee Resettlement, Administration for Children & Families, U.S. Department of Health and Human Services.

[FR Doc. 04-17340 Filed 7-29-04; 8:45 am]

BILLING CODE 4184-01-P